DEPARTMENT OF THE INTERIOR

Bureau of Reclamation

[RR83570000, 167R5065C6, RX.59389832.1009676]

Agency Information Collection Activities Under OMB Review; Renewal of a Currently Approved Information Collection

AGENCY: Bureau of Reclamation, Interior.

ACTION: Notice.

SUMMARY: The Bureau of Reclamation (Reclamation) has forwarded the following Information Collection Request to the Office of Management and Budget (OMB) for review and approval: Recreation Use Data Reports, OMB Control Number: 1006-0002. As part of its continuing effort to reduce paperwork and respondent burdens, Reclamation invites State, local, or tribal governments that manage recreation sites at Reclamation projects; concessionaires, and not-for-profit organizations who operate concessions on Reclamation lands; and the public, to comment on this information collection.

DATES: OMB has up to 60 days to approve or disapprove this information collection request, but may respond after 30 days; therefore, public comments must be received on or before December 24, 2015.

ADDRESSES: Send written comments to the Desk Officer for the Department of the Interior at the Office of Management and Budget, Office of Information and Regulatory Affairs, via facsimile to (202) 395-5806, or email to oira_submissions@omb.eop.gov. A copy of your comments should also be directed to the Mr. Jerome Jackson, Bureau of Reclamation, 84-57000, P.O. Box 25007, Denver, CO 80225-0007; or via email to jljackson@usbr.gov. Please reference OMB Control Number 1006-0002 in your comments.

FOR FURTHER INFORMATION CONTACT: Mr. Jerome Jackson at (303) 445-2712. You may also view the information collection request at www.reginfo.gov.

SUPPLEMENTARY INFORMATION:

I. Abstract

Reclamation collects agency-wide recreation and concession information to fulfill congressional reporting requirements pursuant to current public laws, including Public Law 89-72, as amended through 106-580, Federal Water Project Recreation Act of 1965; and Public Law 102-575, Title XXVIII, Reclamation Recreation Management Act of 1992. In addition, collected information will permit relevant program assessments of resources managed by Reclamation, its recreation managing partners, and/or concessionaires for the purpose of contributing to the implementation of Reclamation's mission. More specifically, the collected information enables Reclamation to (1) evaluate the effectiveness of program management based on existing recreation and concessionaire resources and facilities, and (2) validate the efficiency of resources for public use within partner managed recreation resources, located on Reclamation project lands in the 17 Western States. No changes are being made to this information collection.

II. Data

OMB Control Number: 1006-0002.

Title: Recreation Use Data Reports.

Form Numbers: 7-2534, Part I, Managing Partners and Direct Managed Recreation Areas; 7-2535, Part II, Concessionaires.

Frequency: Annually.

Respondents: State, local, or tribal governments; agencies who manage Reclamation's recreation resources and facilities; and commercial concessions, and nonprofit organizations located on Reclamation lands with associated recreation services.

Estimated Total Number of Respondents: 270.

Estimated Number of Responses per Respondent: 1.

Estimated Total Number of Annual Responses: 270.

Estimated Total Annual Burden on Respondents: 136 hours.

Form No. | Burden estimate per form (in minutes) | Annual number of respondents | Annual burden on respondents (in hours)
7-2534 (Part I, Managing Partners and Direct Managed Recreation Areas) | 30 | 155 | 78
7-2535 (Part II, Concessionaires) | 30 | 115 | 58
Total Burden Hours |  |  | 136

III. Request for Comments

A Federal Register notice with a 60-day public comment period soliciting comments on this collection of information was published on September 3, 2015 (80 FR 53326). No comments were received.

We invite comments concerning this information collection on:

(a) Whether the proposed collection of information is necessary for the proper performance of our functions, including whether the information will have practical use;

(b) The accuracy of our burden estimate for the proposed collection of information, including the validity of the methodology and assumptions used;

(c) Ways to enhance the quality, usefulness, and clarity of the information to be collected; and

(d) Ways to minimize the burden of the collection of information on respondents.

An agency may not conduct or sponsor, and a person is not required to respond to a collection of information unless it displays a currently valid OMB control number. Reclamation will display a valid OMB control number on the forms.

IV. Public Disclosure

Before including your address, phone number, email address, or other personal identifying information in your comment, you should be aware that your entire comment—including your personal identifying information—may be made publicly available at any time. While you can ask us in your comment to withhold your personal identifying information from public review, we cannot guarantee that we will be able to do so.

Dated: November 13, 2015.
Roseann Gonzales,
Director, Policy and Administration.

[FR Doc. 2015-29872 Filed 11-23-15; 8:45 am]

BILLING CODE 4332-90-P-P